DEPARTMENT OF ENERGY

Federal Energy Regulatory Commission

Combined Notice of Filings #2

Take notice that the Commission received the following electric rate filings:

Docket Numbers: ER16-2449-001.

Applicants: Boulder Solar II, LLC.

Description: Supplement to March 6, 2017 Notice of Non-Material Change in Status of Boulder Solar II, LLC.

Filed Date: 3/7/17.

Accession Number: 20170307-5252.

Comments Due: 5 p.m. ET 3/28/17.

Docket Numbers: ER17-1121-000.

Applicants: Midcontinent Independent System Operator, Inc.

Description: § 205(d) Rate Filing: 2017-03-08_SA 3006 Duke-Jordan Creek GIA (J515) to be effective 3/3/2017.

Filed Date: 3/8/17.

Accession Number: 20170308-5102.

Comments Due: 5 p.m. ET 3/29/17.

Docket Numbers: ER17-1122-000.

Applicants: PJM Interconnection, L.L.C.

Description: § 205(d) Rate Filing: MAIT submits revisions to certain Service Agreements re: MAIT Integration to be effective 3/20/2007.

Filed Date: 3/8/17.

Accession Number: 20170308-5114.

Comments Due: 5 p.m. ET 3/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2017.
Nathaniel J. Davis, Sr.,
Deputy Secretary.

[FR Doc. 2017-05127 Filed 3-14-17; 8:45 am]

BILLING CODE 6717-01-P